DEPARTMENT OF THE INTERIOR

Fish and Wildlife Service

Denial of Permit for Marine Mammals

AGENCY: Fish and Wildlife Service, Interior.

ACTION: Notice of denial of permit for marine mammals.

SUMMARY: The following permit was denied.

ADDRESSES: Documents and other information submitted with this application are available for review, subject to the requirements of the Privacy Act and Freedom of Information Act, by any party who submits a written request for a copy of such documents to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION: On April 22, 2004, a notice was published in the Federal Register (69 FR 21858), that an application had been filed with the Fish and Wildlife Service by Peter A. Larsen, Newcastle, WY, for a permit (PRT-081356) to import a polar bear (Ursus maritimus) sport hunted from the Baffin Bay polar bear population in Canada for personal use.

Notice is hereby given that on November 3, 2004, as authorized by the provisions of the Marine Mammal Protection Act of 1972, as amended (16 U.S.C. 1361, et seq.), the Fish and Wildlife Service denied the requested permit.

Dated: November 19, 2004.
Michael S. Moore,
Senior Permit Biologist, Branch of Permits, Division of Management Authority.

[FR Doc. 04-26766 Filed 12-6-04; 8:45 am]

BILLING CODE 4310-55-P